FEDERAL COMMUNICATIONS COMMISSION

47 CFR Part 73

[MB Docket No. 19-3; Report No. 3144; FRS 16672]

Petition for Reconsideration of Action in Proceeding

AGENCY: Federal Communications Commission.

ACTION: Petition for Reconsideration.

SUMMARY: A Petition for Reconsideration (Petition) has been filed in the Commission's proceeding by Michael Couzens and Alan Korn, on behalf of Discount Legal.

DATES: Oppositions to the Petition must be filed on or before May 15, 2020. Replies to an opposition must be filed on or before May 26, 2020.

ADDRESSES: Federal Communications Commission, 445 12th Street SW, Washington, DC 20554.

FOR FURTHER INFORMATION CONTACT: Lisa Scanlan, Deputy Division Chief, Media Bureau, Audio Division, (202) 418-2704.

SUPPLEMENTARY INFORMATION: This is a summary of the Commission's document, Report No. 3144, released March 20, 2020. The full text of the Petition may be accessed online via the Commission's Electronic Comment Filing System at: http://apps.fcc.gov/ecfs/. The Commission will not send a Congressional Review Act (CRA) submission to Congress or the Government Accountability Office pursuant to the CRA, 5.U.S.C. because no rules are being adopted by the Commission.

Subject: Reexamination of the Comparative Standards and Procedures for Licensing Noncommercial Educational Broadcast Stations and Low Power FM Stations, MB Docket No. 19-3, Report and Order, FCC 19-127, published at 85 FR 7880 on February 12, 2020.

NUMBER OF PETITIONS FILED: 1.

Federal Communications Commission.
Marlene Dortch,
Secretary, Office of the Secretary.

[FR Doc. 2020-08679 Filed 4-29-20; 8:45 am]

BILLING CODE 6712-01-P